FEDERAL DEPOSIT INSURANCE CORPORATION

Agency Information Collection Activities: Submission for OMB Review; National Survey of Unbanked and Underbanked Households; Comment Request (3064-0167)

AGENCY: Federal Deposit Insurance Corporation (FDIC).

ACTION: Notice and request for comment.

SUMMARY: The FDIC, as part of its obligations under the Paperwork Reduction Act of 1995, invites the general public and other Federal agencies to take this opportunity to comment on the renewal of an existing information collection for its sixth National Survey of Unbanked and Underbanked Households (Household Survey), currently approved under OMB Control No. 3064-0167. The Household Survey is scheduled to be conducted in partnership with the U.S. Census Bureau as a supplement to its June 2019 Current Population Survey (CPS). The survey seeks to measure and track economic inclusion among U.S. households, and to identify the factors that inhibit the participation of these households in the mainstream banking system and opportunities to expand the use of banking services among underserved consumers. The results of these ongoing surveys will help policymakers and bankers understand the issues and challenges underserved households perceive when deciding how and where to conduct financial transactions. On November 6, 2018, the FDIC requested comment for 60 days on a proposal to renew these information collections. The FDIC received two comments which are discussed below. The FDIC hereby gives notice of its plan to submit to OMB a request to approve the renewal of this information collection, and again invites comment on the renewal.

DATES: Comments must be submitted on or before March 25, 2019.

ADDRESSES: Interested parties are invited to submit written comments to the FDIC by any of the following methods:

• https://www.FDIC.gov/regulations/laws/federal.

• Email: comments@fdic.gov. Include the name and number of the collection in the subject line of the message.

• Mail: Manny Cabeza (202-898-3767), Counsel, MB-3007, Federal Deposit Insurance Corporation, 550 17th Street NW, Washington, DC 20429.

• Hand Delivery: Comments may be hand-delivered to the guard station at the rear of the 17th Street Building (located on F Street), on business days between 7:00 a.m. and 5:00 p.m.

All comments should refer to OMB control number 3064-0167. A copy of the comments may also be submitted to the OMB desk officer for the FDIC: Office of Information and Regulatory Affairs, Office of Management and Budget, New Executive Office Building, Washington, DC 20503.

FOR FURTHER INFORMATION CONTACT: Manny Cabeza, Counsel, 202-898-3767, mcabeza@fdic.gov, MB-3007, Federal Deposit Insurance Corporation, 550 17th Street NW, Washington, DC 20429.

SUPPLEMENTARY INFORMATION:

Proposal To Renew the Following Currently Approved Collection of Information

Title: National Survey of Unbanked and Underbanked Households.

OMB Number: 3064-0167.

Frequency of Response: Once.

Affected Public: U.S. Households.

Estimated Number of Respondents: 40,000.

Average Time per Response: 9 minutes (0.15 hours) per respondent.

Estimated Total Annual Burden: 0.15 hours × 40,000 respondents = 6,000 hours.

General Description of Collection: The FDIC recognizes that public confidence in the banking system is strengthened when banks effectively serve the broadest possible set of consumers. As a result, the agency is committed to increasing economic inclusion in the financial mainstream by ensuring that all Americans have access to safe, secure, and affordable banking services. The National Survey of Unbanked and Underbanked Households is one contribution to this end.

The National Survey of Unbanked and Underbanked Households is also a key component of the FDIC's efforts to comply with a Congressional mandate contained in section 7 of the Federal Deposit Insurance Reform Conforming Amendments Act of 2005 (“Reform Act”) (Pub. L. 109-173), which calls for the FDIC to conduct ongoing surveys “on efforts by insured depository institutions to bring those individuals and families who have rarely, if ever, held a checking account, a savings account or other type of transaction or check cashing account at an insured depository institution (hereafter in this section referred to as the `unbanked') into the conventional finance system.” Section 7 further instructs the FDIC to consider several factors in its conduct of the surveys, including: (1) “What cultural, language and identification issues as well as transaction costs appear to most prevent `unbanked' individuals from establishing conventional accounts”; and (2) “what is a fair estimate of the size and worth of the “unbanked” market in the United States.” The National Survey of Unbanked and Underbanked Households is designed to address these factors and provide a factual basis on the proportions of unbanked households. Such a factual basis is necessary to adequately assess banks' efforts to serve these households as required by the statutory mandate. The National Survey of Unbanked and Underbanked Households is the only population-representative survey conducted at the national level that provides state-level estimates of the size and characteristics of unbanked and underbanked households for all 50 states and the District of Columbia.

The FDIC supplement collects nationally-representative data, not otherwise available, to measure and track economic inclusion, and assess the accessibility and sustainability of banking relationships. The survey identifies different banking status groups, including unbanked and underbanked consumers. In identifying underbanked consumers, the FDIC considers households that have bank accounts but also substantially rely on nonbank financial services to meet basic financial needs such as receiving income, paying bills, saving and storing money, and accessing basic consumer credit. There is an emphasis on services that are disproportionately relied on by the unbanked, and are provided by a company or firm, as opposed to those accessed informally through individuals. The survey captures the use of a range of bank and nonbank products, and other data to help assess the reasons why some households do not make greater use of mainstream banking services.

To obtain this information, the FDIC partners with the U.S. Census Bureau, which administers the Household Survey supplement (“FDIC Supplement”) to households that participate in the CPS. The supplement has been administered every other year since January 2009. The previous survey questionnaires and survey results can be accessed through the following link: http://www.economicinclusion.gov/surveys/.

Consistent with the statutory mandate to conduct the surveys on an ongoing basis, the FDIC already has in place arrangements for conducting the sixth Household Survey as a supplement to the June 2019 CPS.

However, prior to finalizing the next survey questionnaire, the FDIC seeks to solicit public comment on whether changes to the existing instrument are desirable and, if so, to what extent. It should be noted that, as a supplement of the CPS survey, the Household Survey needs to adhere to specific parameters that include limits in the length and sensitivity of the questions that can be asked of CPS respondents. Interested members of the public may obtain a copy of the proposed survey questionnaire on the following web page: https://www.fdic.gov/regulations/laws/federal/2018/2019-draft-household-survey-questionnaire.pdf.

Comment Discussion

On November 23, 2018, the FDIC requested comment for 60 days on a proposal to renew the National Survey of Unbanked and Underbanked Households information collection.¹ The FDIC received two comments in response to this request. Both commenters were supportive of the survey effort. One did not provide specific suggestions about the survey. The other commenter suggested that the FDIC collect information on the types of activities that consumers conduct at bank branches. The FDIC is interested in better understanding consumers' use of banking channels, including physical branch locations, and the 2019 survey includes questions on the use of bank tellers and the intensity of branch use. However, the suggested question detailing branch activities was long, with 14 answer options, and would not be feasible to implement given the survey administration methods (it is primarily telephone-based) and survey length constraints. The FDIC will consider how best to learn about consumers' bank branch activities in future survey administrations and/or other research efforts.

¹ 83 FR 55532 (November 6, 2018).

Request for Comment

Comments are again invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Dated at Washington, DC, on February 15, 2019.
Federal Deposit Insurance Corporation.
Robert E. Feldman,
Executive Secretary.

[FR Doc. 2019-03001 Filed 2-20-19; 8:45 am]

BILLING CODE 6714-01-P